DEPARTMENT OF ENERGY

Federal Energy Regulatory Commission

Combined Notice of Filings #1

Take notice that the Commission received the following electric rate filings:

Docket Numbers: ER10-2507-014.

Applicants: Westar Energy, Inc.

Description: Notice of Non-Material Change in Status of Westar Energy, Inc.

Filed Date: 1/19/18.

Accession Number: 20180119-5105.

Comments Due: 5 p.m. ET 2/9/18.

Docket Numbers: ER15-1579-009.

Applicants: 67RK 8me LLC.

Description: Compliance filing: 67RK 8me LLC Notice of Change in Category Status to be effective 1/18/2018.

Filed Date: 1/18/18.

Accession Number: 20180118-5066.

Comments Due: 5 p.m. ET 2/8/18.

Docket Numbers: ER15-1582-010.

Applicants: 65HK 8me LLC.

Description: Compliance filing: 65HK 8me LLC Notice of Change in Category Status to be effective 1/18/2018.

Filed Date: 1/18/18.

Accession Number: 20180118-5065.

Comments Due: 5 p.m. ET 2/8/18.

Docket Numbers: ER15-1914-011.

Applicants: 87RL 8me LLC.

Description: Compliance filing: 87RL 8me LLC Notice of Change in Category Status to be effective 1/18/2018.

Filed Date: 1/18/18.

Accession Number: 20180118-5067.

Comments Due: 5 p.m. ET 2/8/18.

Docket Numbers: ER16-1955-005.

Applicants: Antelope DSR 2, LLC.

Description: Compliance filing: Antelope DSR 2 Notice of Change in Category Status to be effective 1/18/2018.

Filed Date: 1/18/18.

Accession Number: 20180118-5069.

Comments Due: 5 p.m. ET 2/8/18.

Docket Numbers: ER17-512-004.

Applicants: Virginia Electric and Power Company.

Description: Compliance filing: VEPCO Informational Filing on Deactivation of Certain Generation Units to be effective N/A.

Filed Date: 1/19/18.

Accession Number: 20180119-5066.

Comments Due: 5 p.m. ET 2/9/18.

Docket Numbers: ER17-2470-002.

Applicants: Red Dirt Wind Project, LLC.

Description: Notice of Non-Material Change in Status of Red Dirt Wind Project, LLC.

Filed Date: 1/18/18.

Accession Number: 20180118-5157.

Comments Due: 5 p.m. ET 2/8/18.

Docket Numbers: ER18-27-001.

Applicants: Thunder Ranch Wind Project, LLC.

Description: Compliance filing: Thunder Ranch Wind Project, LLC MBR Tariff to be effective 11/1/2017.

Filed Date: 1/18/18.

Accession Number: 20180118-5143.

Comments Due: 5 p.m. ET 2/8/18.

Docket Numbers: ER18-670-000.

Applicants: Ohio River Partners Shareholder LLC.

Description: Petition for Limited Waiver of Ohio River Partners Shareholder LLC.

Filed Date: 1/17/18.

Accession Number: 20180117-5134.

Comments Due: 5 p.m. ET 1/25/18.

Docket Numbers: ER18-676-000.

Applicants: North American Energy Markets Association.

Description: Baseline eTariff Filing: North American Energy Markets Association Submits its 2018 Power and Gas Tariff to be effective 1/19/2018.

Filed Date: 1/18/18.

Accession Number: 20180118-5142.

Comments Due: 5 p.m. ET 2/8/18.

Docket Numbers: ER18-677-000.

Applicants: SWITCH, LTD.

Description: Baseline eTariff Filing: Switched On Request for MBR Authority to be effective 3/20/2018.

Filed Date: 1/18/18.

Accession Number: 20180118-5144.

Comments Due: 5 p.m. ET 2/8/18.

Docket Numbers: ER18-678-000.

Applicants: Consolidated Edison Company of New York, Inc.

Description: § 205(d) Rate Filing: Cancellation 18-a 1/18/2018 to be effective 1/19/2018.

Filed Date: 1/18/18.

Accession Number: 20180118-5154.

Comments Due: 5 p.m. ET 2/8/18.

Docket Numbers: ER18-679-000.

Applicants: PJM Interconnection, L.L.C.

Description: § 205(d) Rate Filing: Queue Position #AA2-017, Original Service Agreement No. 4881 to be effective 12/20/2017.

Filed Date: 1/19/18.

Accession Number: 20180119-5029.

Comments Due: 5 p.m. ET 2/9/18.

Docket Numbers: ER18-680-000.

Applicants: PJM Interconnection, L.L.C.

Description: Compliance filing: Revisions to OATT Sch. 12-Appx and Appx A re: Linden/HTP's cost responsibility to be effective 1/1/2018.

Filed Date: 1/19/18.

Accession Number: 20180119-5069.

Comments Due: 5 p.m. ET 2/9/18.

Docket Numbers: ER18-681-000.

Applicants: NorthWestern Corporation.

Description: Tariff Cancellation: Notice of Cancellation: SA 793, Utilities Agreement with MDT (West Laurel) to be effective 1/20/2018.

Filed Date: 1/19/18.

Accession Number: 20180119-5071.

Comments Due: 5 p.m. ET 2/9/18.

Docket Numbers: ER18-682-000.

Applicants: PacifiCorp.

Description: § 205(d) Rate Filing: 3 Phases Renewables (OR D.A.) to be effective 1/1/2018.

Filed Date: 1/19/18.

Accession Number: 20180119-5079.

Comments Due: 5 p.m. ET 2/9/18.

Docket Numbers: ER18-683-000.

Applicants: Southern California Edison Company.

Description: § 205(d) Rate Filing: GIA and Distrib Serv Agmt, Difwind Farms Limited V Project SA 991 992 WDT1130QFC to be effective 1/17/2018.

Filed Date: 1/19/18.

Accession Number: 20180119-5097.

Comments Due: 5 p.m. ET 2/9/18.

Docket Numbers: ER18-684-000.

Applicants: Nevada Power Company.

Description: Initial rate filing: Rate Schedule No. 158 NPC/Desertlink O & M Agree to be effective 3/21/2018.

Filed Date: 1/19/18.

Accession Number: 20180119-5135.

Comments Due: 5 p.m. ET 2/9/18.

Docket Numbers: ER18-685-000.

Applicants: Nevada Power Company.

Description: Initial rate filing: Rate Schedule No. 159 NPC/Desertlink License & Sale Agr to be effective 3/21/2018.

Filed Date: 1/19/18.

Accession Number: 20180119-5144.

Comments Due: 5 p.m. ET 2/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2018.
Nathaniel J. Davis, Sr.,
Deputy Secretary.

[FR Doc. 2018-01586 Filed 1-26-18; 8:45 am]

BILLING CODE 6717-01-P